DEPARTMENT OF TRANSPORTATION

Office of the Secretary

Aviation Proceedings; Agreements Filed

Aviation Proceedings, Agreements filed the week ending December 13, 2002.

The following Agreements were filed with the Department of Transportation under the provisions of 49 U.S.C. 412 and 414. Answers may be filed within 21 days after the filing of the application.

Docket Number: OST-2002-14035.

Date Filed: December 9, 2002.

Parties: Members of the International Air Transport Association.

Subject: PTC COMP 0987 dated 10 December 2002, Mail Vote 258—Resolution 024d, Amendment to rounding units for the Jamaican Dollar, Intended effective date: 1 January 2003.

Docket Number: OST-2002-14074.

Date Filed: December 13, 2002.

Parties: Members of the International Air Transport Association.

Subject: PSC/Reso/117 dated December 6, 2002, Finally Adopted

Resolutions r1-r32, Intended effective date: 1 June 2003.

Dorothy Y. Beard,
Federal Register Liaison.

[FR Doc. 02-32272 Filed 12-23-02; 8:45 am]

BILLING CODE 4910-62-P